DEPARTMENT OF COMMERCE

National Oceanic and Atmospheric Administration

[RTID 0648-XX031]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow commercial fishing vessels to use dredge fishing gear with a forward facing camera within the Great South Channel Habitat Management Area to characterize habitat substrate types where dredge fishing occurs, and conduct compensation fishing that would support research conducted by the Coonamessett Farm Foundation. Regulations under the Magnuson-Stevens Fishery Conservation and Management Act require publication of this notification to provide interested parties the opportunity to comment on applications for proposed Exempted Fishing Permits.

DATES: Comments must be received on or before February 11, 2020.

ADDRESSES: You may submit written comments by any of the following methods:

• Email: nmfs.gar.efp@noaa.gov. Include in the subject line “CFF Great South Channel HMA Clam EFP.”

• Mail: Michael Pentony, Regional Administrator, NMFS, Greater Atlantic Regional Fisheries Office, 55 Great Republic Drive, Gloucester, MA 01930. Mark the outside of the envelope “Comments on CFF Great South Channel HMA EFP.”

FOR FURTHER INFORMATION CONTACT: Laura Hansen, Fishery Management Specialist, 978-281-9225.

SUPPLEMENTARY INFORMATION: On April 9, 2018, we approved the New England Fishery Management Council's Omnibus Essential Fish Habitat Amendment 2 that created the Great South Channel Habitat Management Area (GSC HMA). The Council also initiated a follow-up action in December of 2018 that approved limited exemption areas within the HMA for the surfclam fishery, and explicitly mentioned potential research in other parts of the HMA that could provide data necessary to support expanded exemptions in the future.

In an effort to address some of the Council's research priorities for the GSC HMA, Coonamessett Farm Foundation (CFF) has developed a multi-phase research project that would attempt to:

1. Characterize substrate types where surfclam and mussel fishing occurs within the GSC HMA;

2. Track spatiotemporal habitat change and benthic macrofauna distribution in an active fishing ground; and

3. Determine spatiotemporal occurrence of Atlantic cod and other species within the HMA that are subjected or adjacent to commercial clam and mussel dredging activities.

CFF submitted a complete application for an EFP on November 8, 2019, to enable research in support of the objective 1 (identified above). The exemptions would authorize participating vessels to fish with dredge gear in portions of the GSC HMA in order to characterize substrate types where surfclam and mussel fishing occurs, and to enable compensation fishing, which would fund research associated with objectives 2 and 3.

Under this EFP, five vessels targeting surfclams and mussels would fish with dredge-mounted, forward-facing cameras to characterize substrate types where surfclam and mussel fishing occurs within the GSC HMA. CFF contends that this information will support future consideration of HMA dredge emeption areas. A portion of the funds generated from these trips would be used to support future data collection using cameras to examine the habitat impacts of dredging, conduct habitat mapping and analysis, and research the presence of juvenile cod in the GSC HMA. If this EFP is approved, CFF has indicated their intention to broaden the scope of where they may fish with clam and mussel dredges once the initial phase of fishing is complete. Additional dredge fishing in the GSC HMA would entail a new EFP. We would evaluate future EFP applications on its own merits, which would include the utility of the information gathered from the first phase of dredge fishing before considering additional exemptions.

Figure 1 shows Rose and Crown and Davis Bank, the 24 km² phase 1 study area within Rose and Crown, and two reference points within the study area where fishing would not occur. CFF estimates that up to 120 clam fishing trips and 27 mussel fishing trips would be taken within the Rose and Crown study area. Clam and mussel trips are typically day trips, and effort would be constrained spatially within the 24 km² area and temporally to one year. CFF states that every dredge would be fitted with at least one forward viewing GoPro camera with lights. CFF plans to record 100 percent of each dredge tow, provided there are no equipment losses or malfunctions. Vessel crew would document retained catch of clams, estimate the volume of total bycatch by bushel for mussels and other species such as crab, weight for individual fish species, and bushel counts for cobble and rocks. A camera would be set up to take video and time lapse frames of the deck pile as it is picked. CFF stated that crew would take estimates of the catch on every tow through a visual estimate and a more thorough sampling of the catch would occur when CFF staff are on board. CFF staff would be on board for approximately 10 percent of EFP trips. Catch estimates for clam and other species are provided in Table 1. The catch estimates were based on experimental trips taken in the HMA from December 2018-April 2019. CFF would take some samples of blue mussels back to a lab for age and disease analysis. All other catch above a possession limit or below a minimum size would be discarded as soon as possible following data collection. All catch landed for sale would be accounted for in accordance with standard commercial catch accounting procedures, and applied against the applicable quota.

Table 1—Estimated Catch for EFP Trips
[Bushel = bu]
Species | Number | Weight (lb) | Weight (kg)
Atlantic Surfclam | 200,000 bu | 3,333,333 | 1,511,974
Mussel | 5,000 bu | 83,333 | 37,799
Winter Flounder | 540 | 76 | 34
Windowpane Flounder | 540 | 199 | 90
Skate (Misc.) | 1,000 | 8,000 | 3,629

If approved, the applicant may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: January 22, 2020.
Karyl K. Brewster-Geisz,
Acting Director, Office of Sustainable Fisheries, National Marine Fisheries Service.

[FR Doc. 2020-01301 Filed 1-24-20; 8:45 am]

BILLING CODE 3510-22-P